DEPARTMENT OF THE INTERIOR

National Park Service

Notice of Intent To Repatriate Cultural Items: U.S. Department of Agriculture, Forest Service, Gila National Forest, Silver City, NM

AGENCY: National Park Service, Interior.

ACTION: Notice.

Notice is here given in accordance with the Native American Graves Protection and Repatriation Act (NAGPRA), 25 U.S.C. 3005, of the intent to repatriate cultural items in the possession and control of the U.S. Department of Agriculture, Forest Service, Gila National Forest, Silver City, NM, that meet the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

Between 1972 and 1974, pottery sherds were removed from burial contexts at four archeological sites (LA 11609, LA 83194, LA 147976 and LA 148037) in Grant County, NM, during legally authorized excavations by Southern Methodist University, Dallas, TX. The single bag of sherds was curated at Western New Mexico University, Silver City, NM, until the early 1990s when it was transferred to the Forest Supervisor's Office, Gila National Forest. The sherds are listed as having been recovered from a burial context.

LA 11609, LA 83194, LA 147976 and LA 148037 are a group of geographically and culturally related sites in the Burro Mountains of southwestern New Mexico. Based on material culture and site organization, the four sites have been identified as Mogollon villages occupied between A.D. 1000 and 1300.

In 1977, one ceramic vessel was removed from a burial context at LA 65250, Grant County, NM, as a result of illegal excavations by an unknown individual or individuals. The object was subsequently recovered by the Forest Service. The objects were curated at Western New Mexico University until the early 1990s when it was transferred to the Forest Supervisor's Office, Gila National Forest. The vessel is listed as having been recovered from a burial context.

Based on material culture and site organization, LA 65250 has been identified as a Mogollon village occupied between A.D. 1000 and 1200.

Continuities between ethnographic materials and technology indicate the affiliation of the above mentioned two Mogollon sites that are located in southwestern New Mexico with the Pueblo of Acoma, New Mexico; Hopi Tribe of Arizona; and Zuni Tribe of the Zuni Reservation, New Mexico. The oral traditions of the Pueblo of Acoma, New Mexico; Hopi Tribe of Arizona; and Zuni Tribe of the Zuni Reservation, New Mexico support the cultural affiliation of these three Indian tribes with Mogollon sites in southwestern New Mexico.

In 1973, 32 pottery sherds were removed illegally from an unknown site or sites in the area of Apache Creek, Catron County, NM, by Brad Triplehorn. Mr. Triplehorn subsequently donated the pottery sherds to the Ohio Historical Society, Columbus, OH, where they were curated until 2008 when the objects were transferred to the Forest Supervisor's Office, Gila National Forest. The sherds are listed as having been recovered from a burial context.

Based on material culture, the site(s) has been identified as Upland Mogollon and occupied between A.D. 600 and 1300.

In 1978, two ceramic vessels were removed from the WS Ranch Site (LA 3009) in Grant County, NM, during legally authorized excavations by the University of Texas at Austin. These objects were curated at Western New Mexico University until the early 1990s when they were transferred to the Forest Supervisor's Office, Gila National Forest. The vessels are listed as having been recovered from a burial context.

Based on material culture and site organization, the WS Ranch site has been identified as an Upland Mogollon masonry pueblo which was occupied between A.D. 1150 and 1300.

Continuities between ethnographic materials and technology indicate the affiliation of the two Upland Mogollon sites that are located in west-central New Mexico with the Pueblo of Acoma, New Mexico; Hopi Tribe of Arizona; and Zuni Tribe of the Zuni Reservation, New Mexico. The oral traditions of the Pueblo of Acoma, New Mexico; Hopi Tribe of Arizona; and Zuni Tribe of the Zuni Reservation, New Mexico support the cultural affiliation of these three Indian tribes with Mogollon sites in west-central New Mexico.

Officials of the U.S. Department of Agriculture, Forest Service, Gila National Forest have determined that, pursuant to 25 U.S.C. 3001 (3)(B), the 36 cultural items described above are reasonably believed to have been placed with or near individual human remains at the time of death or later as part of the death rite or ceremony and are believed, by a preponderance of the evidence, to have been removed from a specific burial site of a Native American individual. Officials of the U.S. Department of Agriculture, Forest Service, Gila National Forest also have determined that, pursuant to 25 U.S.C. 3001 (2), there is a relationship of shared group identity that can be reasonably traced between the unassociated funerary objects and the Pueblo of Acoma, New Mexico; Hopi Tribe of Arizona; and Zuni Tribe of the Zuni Reservation, New Mexico.

Representatives of any other Indian tribe that believes itself to be culturally affiliated with the unassociated funerary objects should contact Dr. Frank E. Wozniak, NAGPRA Coordinator, Southwestern Region, USDA Forest Service, 333 Broadway Blvd., SE, Albuquerque, NM 87102, telephone (505) 842-3238, before April 24, 2009. Repatriation of the unassociated funerary objects to the Pueblo of Acoma, New Mexico; Hopi Tribe of Arizona; and Zuni Tribe of the Zuni Reservation, New Mexico may proceed after that date if no additional claimants come forward.

The U.S. Department of Agriculture, Forest Service, Gila National Forest is responsible for notifying the Pueblo of Acoma, New Mexico; Hopi Tribe of Arizona; and Zuni Tribe of the Zuni Reservation, New Mexico that this notice has been published.

Dated: March 6, 2009
Sherry Hutt,
Manager, National NAGPRA Program.

[FR Doc. E9-6509 Filed 3-24-09; 8:45 am]

BILLING CODE 4312-50-S